ENVIRONMENTAL PROTECTION AGENCY

[FRL-6873-8]

Workshop Report on Characterizing Ecological Risk at the Watershed Scale

AGENCY: Environmental Protection Agency (EPA).

ACTION: Notice of availability of final report.

SUMMARY: The Environmental Protection Agency (EPA), National Center for Environmental Assessment (NCEA), is announcing the availability of a final report, Workshop Report on Characterizing Ecological Risk at the Watershed Scale (EPA/600/R-99/111, February 2000). This workshop was funded through an interagency agreement between EPA and the Tennessee Valley Authority (TVA) and was held on July 7 and 8, 1999, at the Crystal City Marriott in Arlington, VA. The workshop was organized to address the application of ecological risk assessment to watershed management and decision making—in particular the challenge of characterizing risks that involve numerous stressors, interconnected pathways, and multiple endpoints. Participants representing federal agencies, academia, consulting firms, and environmental organizations were invited to attend based on their experience in ecological risk assessment, watershed management, or regional scale assessment. Workshop participants were asked to focus on those aspects for characterizing risk at the watershed scale deemed most in need of a procedural framework. This report reflects the results of those discussions and provides recommendations for estimating and describing risks to valued ecological resources at the watershed scale.

ADDRESSES: The document is available primarily on the Internet at http://www.epa.gov/ncea under the What's New and Publications menus. A limited number of paper copies of the report are available from the EPA's National Service Center for Environmental Publications (NSCEP), P.O. Box 42419, Cincinnati, OH 45242; telephone: 1-800-490-9198 or 513-489-8190; facsimile: 513-489-8695. Please provide your name and mailing address and the title and EPA number of the requested publication.

FOR FURTHER INFORMATION CONTACT: Victor Serveiss, National Center for Environmental Assessment—Washington Office (8623D), U.S. Environmental Protection Agency, 1200 Pennsylvania Avenue, NW., Washington, DC 20460; telephone: 202-564-3251; facsimile: 202-565-0076; email:serveiss.victor@epa.gov.

Dated: September 5, 2000.
William H. Farland,
Director, National Center for Environmental Assessment.

[FR Doc. 00-24313 Filed 9-20-00; 8:45 am]

BILLING CODE 6560-50-P